DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Pub. L. 92-463, 86 Stat. 770) requires that public notice of these meetings be announced in the Federal Register.

DATES: Thursday, April 22, 2004, 8:30 a.m.-4:50 p.m., Friday, April 23, 2004, 8:30 a.m.-12:30 p.m.

ADDRESSES: U.S. Department of Energy, Room 8E-089, 1000 Independence Ave., SW., Washington, DC 20585.

FOR FURTHER INFORMATION CONTACT: Mr. William I. Weinig, EI-70, Committee Liaison, Energy Information Administration, U.S. Department of Energy, 1000 Independence Ave., SW., Washington, DC 20585, Telephone: (202) 287-1709. Alternately, Mr. Weinig may be contacted by email at william.weinig@eia.doe.gov or by FAX at (202) 287-1705.

Purpose of the Committee: To advise the Department of Energy, Energy Information Administration (EIA), on EIA technical statistical issues and to enable the EIA to benefit from the Committee's experience concerning other energy-related statistical matters.

Tentative Agenda

Thursday, April 22, 2004

A. Opening Remarks by the ASA Committee Chair, the EIA Administrator and the Director, Statistics and Methods Group, EIA. Room 8E-089

B. Major Topics (Room 8E-089 unless otherwise noted)

1. Short-Term Energy Forecasting:

a. Natural Gas Prices and Industrial Sector Responses: An Experimental Module for the Short-Term Integrated Forecasting System

b. Issues in Short-Term Energy Modeling: Adding Regional Components to EIA's Short-Term Energy Model

2. Reducing Bias and Variability in Texas Natural Gas Production Estimates (Room 5E-069)

3. EIA's Frames: How Do We Know if They Are Sufficient? (Room 5E-069)

4. Public Questions and Comments

5. Electricity Transmission

a. Electricity 2005

b. Electricity Transmission Data Needs Focus Group Results

c. Transmission Data for Public Policy

6. Estimating Weekly Other Oils Stock

7. EIA Survey Testing Methods (Room 5E-069)

8. Natural Gas Production Monthly Survey

9. Public Questions and Comments

Friday, April 23, 2004

C. Major Topics

1. Improving EIA's Web site: Creating a Vision for the Future

2. Revising Data Together Across EIA: Issues and Opportunities

3. Survey Quality Assessments at EIA (5E-069)

4. Measuring and Quantifying the Quality of EIA Analysis: A Revised Approach

5. Public Questions and Comments

D. Closing Remarks by the ASA Committee Chair

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

A Meeting Summary and Transcript will subsequently be available through Mr. Weinig who may be contacted at (202) 287-1709 or by email at william.weinig@eia.doe.gov.

Issued at Washington, DC on March 24, 2004.
Rachel M. Samuel,
Deputy Committee Management Officer.

[FR Doc. 04-7204 Filed 3-30-04; 8:45 am]

BILLING CODE 6450-01-P